Title 3—

The President

Proclamation 7889 of April 20, 2005

National Physical Fitness and Sports Month, 2005

By the President of the United States of America

A Proclamation

Physical fitness is vital to a healthy lifestyle. During National Physical Fitness and Sports Month, we highlight the importance of integrating exercise into our daily routines and encourage all our citizens to live more active lives.

Physical fitness benefits both the body and the mind. Regular exercise, along with healthy eating habits, helps prevent serious health problems, improves productivity, and promotes better sleep and relaxation. Maintaining an active lifestyle reduces the risk of chronic diseases such as obesity, diabetes, asthma, heart disease, and certain cancers. Americans can improve their health and well-being by dedicating a small part of each day to physical activity.

As children grow, athletic activities teach them important life lessons and help prepare them for the opportunities ahead. Sports are a way for young Americans to meet new friends, discover the value of teamwork, discipline, and patience, and learn to win and lose with respect for others. From baseball to mountain biking to swimming, sports and physical activities can be a great chance to get outdoors and enjoy memorable experiences with family and friends.

Through the President's Council on Physical Fitness and Sports, my Administration is promoting the incorporation of physical activity into daily life and the importance of a healthy lifestyle. The Council's website, www.fitness.gov, provides information on steps individuals can take to live better and more productive lives. Programs like “The President's Challenge” help individuals set fitness goals and work hard to achieve them.

I urge all Americans to set aside time to improve their health through physical fitness and sports, and I encourage individuals to help motivate their family and friends to get out and exercise. By contributing to a culture of health and well-being in America, citizens help demonstrate the strength and character of our great country.

NOW, THEREFORE, I, GEORGE W. BUSH, President of the United States of America, by virtue of the authority vested in me by the Constitution and laws of the United States, do hereby proclaim May 2005 as National Physical Fitness and Sports Month. I call upon the people of the United States to make daily physical activity a priority in their lives and to recognize the numerous benefits of an active lifestyle. I also call on all Americans to celebrate this month with appropriate ceremonies, activities, and programs.

IN WITNESS WHEREOF, I have hereunto set my hand this twentieth day of April, in the year of our Lord two thousand five, and of the Independence of the United States of America the two hundred and twenty-ninth.

B

[FR Doc. 05-8276

Filed 4-21-05; 10:40 am]

Billing code 3195-01-P